DEPARTMENT OF STATE

[Public Notice 4708]

Notice of Receipt of Cultural Property Request From the Government of the Republic of Colombia

The Government of the Republic of Colombia, concerned that its cultural heritage is in jeopardy from pillage, made a request to the Government of the United States under Article 9 of the 1970 UNESCO Convention. The request was received on April 21, 2004, by the United States Department of State. It seeks U.S. import restrictions on pre-Columbian archaeological material including, but not limited to, certain categories of stone sculpture, including rock art; pottery, including figurines and containers; gold; and certain categories of objects of perishable materials, including wood, bone, and textile. The request also seeks similar import restrictions on Colonial period artifacts, including, but not limited to, oil paintings, polychrome sculpture, and silver objects of decorative and liturgical purposes.

Information about the Act and U.S. implementation of the 1970 UNESCO Convention, as well as a public summary of the Colombia Request can be found at http://exchanges.state.gov/education/culprop.

Dated: June 3, 2004.
Patricia S. Harrison,
Assistant Secretary for Educational and Cultural Affairs, Department of State.

[FR Doc. 04-13467 Filed 6-14-04; 8:45 am]

BILLING CODE 4710-11-P